INTER-AMERICAN FOUNDATION

Sunshine Act Meeting

Time and Date: April 30, 2004, 9 a.m.-1:30 p.m.

Place: Inter-American Foundation, 901 North Stuart Street, Arlington, VA 22203.

Status: Open session.

Matters to be Considered:

• President's Report (Board of Directors): 9:30

• Break (enter Advisory Council): 10:30

• Results Report: 10:45

• Presentation on Project in the Dominican Republic: 11

• Presentation on Transnationalism: 11:15

• Three-Pronged Strategy for Fiscal Year 2005: 11:30

• Prong I

• Congress and the Administration

• Prong II

• Lunch

• Alternative Financing Mechanisms

• Prong III

• Outreach and Democratic Practices

• Closing: 1:30

Contact Person for More Information: Carolyn Karr, Senior Vice President and General Counsel, (703) 306-4350.

Dated: April 8, 2004.
Carolyn Karr,
Senior Vice President and General Counsel.

[FR Doc. 04-8605 Filed 4-12-04; 2:44 pm]

BILLING CODE 7025-01-M